DEPARTMENT OF STATE

[Public Notice 7949]

Bureau of Political-Military Affairs: Directorate of Defense Trade Controls; Notifications to the Congress of Proposed Commercial Export Licenses

SUMMARY: Notice is hereby given that the Department of State has forwarded the attached Notifications of Proposed Export Licenses to the Congress on the dates indicated on the attachments pursuant to sections 36(c) and 36(d) and in compliance with section 36(f) of the Arms Export Control Act (22 U.S.C. 2776).

DATES: Effective Date: As shown on each of the 37 letters.

FOR FURTHER INFORMATION CONTACT: Mr. Robert S. Kovac, Managing Director, Directorate of Defense Trade Controls, Bureau of Political-Military Affairs, Department of State (202) 663-2861.

SUPPLEMENTARY INFORMATION: Section 36(f) of the Arms Export Control Act mandates that notifications to the Congress pursuant to sections 36(c) and 36(d) must be published in the Federal Register when they are transmitted to Congress or as soon thereafter as practicable.

April 27, 2012 (Transmittal Number 11-024)

The Honorable John A. Boehner, Speaker of the House of Representatives.

Dear Mr. Speaker: Pursuant to Section 36(c) of the Arms Export Control Act, I am transmitting, herewith, certification of a proposed amendment to a technical assistance agreement for the manufacture and the export of defense articles, including technical data, and defense services in the amount of $100,000,000 or more. The transaction described in the attached certification involves the export of defense articles, including technical data, and defense services to France, Italy, Belgium and Spain for the design, manufacture and delivery of Satellite Subsystems On-Board Processors for the Iridium NEXT program. The United States Government is prepared to license the export of these items having taken into account political, military, economic, human rights, and arms control considerations. This notification should not be interpreted as the Department's conclusion that the applicant or any manufacturer, supplier or vendor or other entity related to it has not violated any of the statutes enumerated at 22 U.S.C. 2778(g) with respect to this or other related transactions. The Department reserves its ability to approve or deny this transaction.

More detailed information is contained in the formal certification which, though unclassified, contains business information submitted to the Department of State by the applicant, publication of which could cause competitive harm to the United States firm concerned.

Sincerely,

David S. Adams,

Assistant Secretary, Legislative Affairs.

April 27, 2012 (Transmittal Number 11-075)

The Honorable John A. Boehner, Speaker of the House of Representatives.

Dear Mr. Speaker: Pursuant to Section 36(c) of the Arms Export Control Act, I am transmitting, herewith, certification of a proposed technical assistance agreement for the export of defense articles, including technical data, and defense services sold commercially under contract in the amount of $50,000,000 or more. The transaction described in the attached certification involves the transfer of defense articles, including technical data, and defense services to support the design, manufacturing and delivery phases of the SES-8 Commercial Communications Satellite Program for the Netherlands.

The United States Government is prepared to license the export of these items having taken into account political, military, economic, human rights, and arms control considerations. This notification should not be interpreted as the Department's conclusion that the applicant or any manufacturer, supplier or vendor or other entity related to it has not violated any of the statutes enumerated at 22 U.S.C. 2778(g) with respect to this or other related transactions. The Department reserves its ability to approve or deny this transaction.

More detailed information is contained in the formal certification which, though unclassified, contains business information submitted to the Department of State by the applicant, publication of which could cause competitive harm to the United States firm concerned.

Sincerely,

David S. Adams,

Assistant Secretary, Legislative Affairs.

December 15, 2011 (Transmittal Number 11-081)

The Honorable John A. Boehner, Speaker of the House of Representatives.

Dear Mr. Speaker: Pursuant to Section 36(c) of the Arms Export Control Act, I am transmitting, herewith, certification of a proposed technical assistance agreement to include the export of defense articles, to include technical data, and defense services in the amount of $50,000,000 or more.

The transaction described in the attached certification involves the export of defense articles, including technical data, and defense services to support the design, development, testing and qualification of weapon kits to be installed on UH-60M helicopters owned and operated by the Armed Forces of the United Arab Emirates.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

December 12, 2011 (Transmittal Number 11-094)

The Honorable John A. Boehner, Speaker of the House of Representatives.

Dear Mr. Speaker: Pursuant to Section 36(c) of the Arms Export Control Act, I am transmitting, herewith, certification of a proposed manufacturing license agreement for the export of defense articles, to include technical data, and defense services in the amount of $50,000,000 or more.

The transaction described in the attached certification involves the export of defense articles, including technical data, and defense services to Hong Kong for the manufacture of transformers, inductors, and coils for power supplies.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

April 27, 2012 (Transmittal Number 11-100)

The Honorable John A. Boehner, Speaker of the House of Representatives.

Dear Mr. Speaker: Pursuant to Section 36(c) of the Arms Export Control Act, I am transmitting, herewith, certification of a proposed technical assistance agreement to include the export of defense articles, to include technical data, and defense services in the amount of $50,000,000 or more.

The transaction described in the attached certification involves the transfer of defense articles, to include technical data, and defense services to support the Proton launch of the W3D Commercial Communication Satellites from the Baikonur Cosmodrome in Kazakhstan.

The United States Government is prepared to license the export of these items having taken into account political, military, economic, human rights, and arms control considerations. This notification should not be interpreted as the Department's conclusion that the applicant or any manufacturer, supplier or vendor or other entity related to it has not violated any of the statutes enumerated at 22 U.S.C. 2778(g) with respect to this or other related transactions. The Department reserves its ability to approve or deny this transaction.

More detailed information is contained in the formal certification which, though unclassified, contains business information submitted to the Department of State by the applicant, publication of which could cause competitive harm to the United States firm concerned.

Sincerely,

David S. Adams,

Assistant Secretary, Legislative Affairs.

March 27, 2012 (Transmittal Number 11-105)

The Honorable John A. Boehner, Speaker of the House of Representatives.

Dear Mr. Speaker: Pursuant to Section 36(c) of the Arms Export Control Act, I am transmitting, herewith, certification for the export of defense articles, to include technical data, and defense services in the amount of $1,000,000 or more.

The transaction contained in the attached certification involves the export of firearms to the Government of India, Ministry of Home Affairs.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

April 27, 2012 (Transmittal Number 11-112)

The Honorable John A. Boehner, Speaker of the House of Representatives.

Dear Mr. Speaker: Pursuant to Section 36(c) of the Arms Export Control Act, I am transmitting, herewith, certification of a proposed agreement for the export of defense articles or defense services sold commercially under contract in the amount of $50,000,000 or more.

The transaction described in the attached certification involves the transfer of defense articles, including technical data, and defense services for the design, manufacture, test, on-ground launch-site delivery, completion of in-orbit testing and long-term support for the MEXSAT Commercial Communication Satellite Program.

The United States Government is prepared to license the export of these items having taken into account political, military, economic, human rights, and arms control considerations. This notification should not be interpreted as the Department's conclusion that the applicant or any manufacturer, supplier or vendor or other entity related to it has not violated any of the statutes enumerated at 22 U.S.C. 2778(g) with respect to this or other related transactions. The Department reserves its ability to approve or deny this transaction.

More detailed information is contained in the formal certification which, though unclassified, contains business information submitted to the Department of State by the applicant, publication of which could cause competitive harm to the United States firm concerned.

Sincerely,

David S. Adams,

Assistant Secretary, Legislative Affairs.

December 16, 2011 (Transmittal Number 11-120)

The Honorable John A. Boehner, Speaker of the House of Representatives.

Dear Mr. Speaker: Pursuant to Section 36(c) of the Arms Export Control Act, I am transmitting, herewith, certification of a proposed export of major defense equipment, in the amount of $14,000,000 or more.

The transaction contained in the attached certification involves the transfer of F-110-GE-132 jet engines to the United Arab Emirates to support their F-16 Block 60 aircraft.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

January 3, 2012 (Transmittal Number 11-124)

The Honorable John A. Boehner, Speaker of the House of Representatives.

Dear Mr. Speaker: Pursuant to Section 36(c) of the Arms Export Control Act, I am transmitting, herewith, certification of a proposed amendment to a manufacturing license agreement for the export of defense articles, including technical data, and defense services in the amount of $50,000,000 or more.

The transaction contained in the attached certification involves the export of defense articles, technical data, and defense services for the manufacture and sales of F-15 Head-Up Displays (HUD).

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

December 15, 2011 (Transmittal Number 11-130)

The Honorable John A. Boehner, Speaker of the House of Representatives.

Dear Mr. Speaker: Pursuant to Section 36(c) of the Arms Export Control Act, I am transmitting, herewith, certification of a proposed technical assistance agreement for the export of defense articles, including technical data, and defense services sold commercially under contract in the amount of $100,000,000 or more. The transaction contained in the attached certification involves the transfer of defense articles, including technical data, and defense services for the NATO Active Layered Theater Ballistic Missile Defence Systems Engineering and Integration Contract.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

March 9, 2012 (Transmittal Number 11-134)

The Honorable John A. Boehner, Speaker of the House of Representatives.

Dear Mr. Speaker: Pursuant to Section 36(c) of the Arms Export Control Act, I am transmitting, herewith, certification of a proposed license for permanent export of defense articles, including technical data, and defense services sold commercially under contract in the amount of $1,000,000 or more.

The transaction contained in the attached certification involves the transfer of defense articles, including technical data, and defense services for use by the Iraqi Terrorism Service Iraq Special Forces for military purposes.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

December 23, 2011 (Transmittal Number 11-136)

The Honorable John A. Boehner, Speaker of the House of Representatives.

Dear Mr. Speaker: Pursuant to Section 36(c) of the Arms Export Control Act, I am transmitting, herewith, certification of a proposed export of major defense equipment, in the amount of $14,000,000 or more, and the export of defense articles, to include technical data, and defense services in the amount of $50,000,000 or more.

The transaction contained in the attached certification involves the transfer of defense articles to include technical data and defense services to Indonesia necessary to support the upgrade and retrofit of C-130B aircraft.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

December 15, 2011 (Transmittal Number 11-138)

The Honorable John A. Boehner, Speaker of the House of Representatives.

Dear Mr. Speaker: Pursuant to Sections 36(c) and 36(d) of the Arms Export Control Act, I am transmitting, herewith, certification of a proposed manufacturing license agreement for the manufacture of significant military equipment abroad and the export of defense articles, including technical data, and defense services in the amount of $100,000,000 or more.

The transaction contained in the attached certification involves the export of defense articles, including technical data, and defense services to the Republic of Korea for the manufacture, assembly, inspection, and test of F404-GE-102 aircraft engines for incorporation into T-50 aircraft owned by the Republic of Korea. This agreement also expands the sales territory to include support to Poland and Indonesia.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

December 15, 2011 (Transmittal Number 11-144)

The Honorable John A. Boehner, Speaker of the House of Representatives.

Dear Mr. Speaker: Pursuant to Section 36(c) of the Arms Export Control Act, I am transmitting, herewith, certification of a proposed export of defense articles, to include technical data, and defense services in the amount of $100,000,000 or more.

The transaction contained in the attached certification involves the transfer of defense articles to include technical data and defense services to The Netherlands related to Airframe Doors, Weapons Bay Doors, Engine Inlet Duct Skins and Engine Inlet Duct Assemblies of the F-35 Joint Strike Fighter aircraft.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

January 3, 2012 (Transmittal Number 11-146)

The Honorable John A. Boehner, Speaker of the House of Representatives.

Dear Mr. Speaker: Pursuant to Section 36(c) of the Arms Export Control Act, I am transmitting, herewith, certification of a proposed technical assistance agreement for the export of defense articles, including technical data, and defense services in the amount of $50,000,000 or more.

The transaction contained in the attached certification involves the transfer of defense articles, to include technical data, and defense services for upgrade of current Swiss simulator training devices to reflect the same configuration as Swiss F/A-18 aircraft to support the F/A-18 Tactical Operational Flight Trainer Program for Switzerland.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

April 17, 2012 (Transmittal Number 12-001)

The Honorable John A. Boehner, Speaker of the House of Representatives.

Dear Mr. Speaker: Pursuant to Sections 36(c) and 36(d) of the Arms Export Control Act, I am transmitting, herewith, certification of a proposed amendment to manufacturing license agreement for the manufacture of significant military equipment aboard and the export of defense articles, including technical data, and defense services in the amount of $50,000,000 or more.

The transaction contained in the attached certification involves the transfer of defense articles, to include technical data, and defense services for Malaysia for the assembly, test and production of the M4 carbine.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 24, 2012 (Transmittal Number 12-006)

The Honorable John A. Boehner, Speaker of the House of Representatives.

Dear Mr. Speaker: Pursuant to Section 36(c) of the Arms Export Control Act, I am transmitting, herewith, certification of a proposed manufacturing license agreement for the export of defense articles, including technical data, and defense services in the amount of $50,000,000 or more.

The transaction contained in the attached certification involves the transfer of defense articles, to include technical data, and defense services for the manufacture of Harpoon Weapon System missile canisters and capsules for the Ministries of Defense for the following countries: Australia, Belgium, Canada, Chile, Egypt, Germany, Greece, India, Indonesia, Israel, Japan, Republic of Korea, Mexico, The Netherlands, Peru, Portugal, Saudi Arabia, Singapore, Spain, Taiwan, Thailand, Turkey, the United Kingdom, and the United States.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 21, 2012 (Transmittal Number 12-007)

The Honorable John A. Boehner, Speaker of the House of Representatives.

Dear Mr. Speaker: Pursuant to Section 36(c) of the Arms Export Control Act, I am transmitting, herewith, certification of a proposed amendment to a technical assistance agreement to include the export of defense articles, including technical data, and defense services in the amount of $50,000,000 or more. The transaction contained in the attached certification involves the export of defense articles, including technical data, and defense services to Canada for the manufacture of aft and forward landing gear assemblies, subassemblies, parts and components for the CH-47/MH-47 Chinook Helicopter.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 24, 2012 (Transmittal Number 12-009)

The Honorable John A. Boehner, Speaker of the House of Representatives.

Dear Mr. Speaker: Pursuant to Section 36(c) of the Arms Export Control Act, I am transmitting, herewith, certification of a proposed amendment to a technical assistance agreement for the export of defense articles, including technical data, and defense services in the amount of $100,000,000 or more.

The transaction contained in the attached certification involves the transfer of defense articles, to include technical data, and defense services to Canada, Norway, Spain, and the United Kingdom for the post-Preliminary Design Review (PDR) design, manufacturing, and delivery phases of the Thor-7 commercial communications satellite program.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 24, 2012 (Transmittal Number 12-010)

The Honorable John A. Boehner, Speaker of the House of Representatives.

Dear Mr. Speaker: Pursuant to Section 36(c) of the Arms Export Control Act, I am transmitting, herewith, certification of a proposed amendment to a technical assistance agreement to include the export of defense articles, including technical data, and defense services in the amount of $50,000,000 or more.

The transaction contained in the attached certification involves the export of defense articles, including technical data, and defense services to the Republic of Korea for the design, development, modification, support, testing, and certification of the Auxiliary Emergency Power System for the T-50 aircraft for end-use by the Republic of Korea Air Force and the Indonesian Air Force.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 25, 2012 (Transmittal Number 12-014)

The Honorable John A. Boehner, Speaker of the House of Representatives.

Dear Mr. Speaker: Pursuant to Section 36(c) and 36(d) of the Arms Export Control Act, I am transmitting, herewith, certification of a proposed amendment to a manufacturing license agreement for the manufacture of significant military equipment abroad and the export of defense articles, to include technical data, and defense services in the amount of $100,000,000 or more.

The transaction contained in the attached certification involves the transfer of defense articles, to include technical data, and defense services to Japan for the manufacture of T58/CT58 engines for the Japanese Ministry of Defense.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 25, 2012 (Transmittal Number 12-015)

The Honorable John A. Boehner, Speaker of the House of Representatives.

Dear Mr. Speaker: Pursuant to Section 36(d) of the Arms Export Control Act, I am transmitting, herewith, certification of a proposed manufacturing license agreement for the manufacture of significant military equipment abroad.

The transaction contained in the attached certification involves the export of defense articles, including technical data, and defense services for the manufacture and sales of the RF-7800S-TR secure personal radio to Brazil.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 21, 2012 (Transmittal Number 12-017)

The Honorable John A. Boehner, Speaker of the House of Representatives.

Dear Mr. Speaker: Pursuant to Sections 36(c) and 36(d) of the Arms Export Control Act, I am transmitting, herewith, certification of a proposed technical assistance agreement for the export of defense articles, to include technical data, and defense services in the amount of $50,000,000 or more.

The transaction contained in the attached certification involves the transfer of defense articles, to include technical data, and defense services for the manufacture of T-16B Inertial Sensor Assemblies (ISAs) and Accelerometer with Higher Level Triad Assembly and associated Circuit Card Assemblies.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

April 27, 2012 (Transmittal Number 12-021)

The Honorable John A. Boehner, Speaker of the House of Representatives.

Dear Mr. Speaker: Pursuant to Sections 36(c) and 36(d) of the Arms Export Control Act, I am transmitting, herewith, certification of a proposed amendment to a manufacturing license agreement for the manufacture of significant military equipment abroad and the export of defense articles, including technical data, and defense services in the amount of $100,000,000 or more.

The transaction contained in the attached certification involves the export of defense articles, including technical data, and defense services to the Republic of Korea for the manufacture of FA-50 Light Attack Aircraft for end use by the Republic of Korea Air Force.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 21, 2012 (Transmittal Number 12-024)

The Honorable John A. Boehner, Speaker of the House of Representatives.

Dear Mr. Speaker: Pursuant to Section 36(c) of the Arms Export Control Act, I am transmitting, herewith, certification of a proposed license to include the export of defense articles, including technical data, or defense services sold commercially under contract in the amount of $100,000,000 or more.

The transaction contained in the attached certification involves the export of defense articles, including technical data, and defense services for installation of AN/PRC-150 and AN/PRC-152 Falcon Radio Systems in various vehicle and dismounted applications to support the Australian Government, Department of Defence.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 25, 2012 (Transmittal Number 12-027)

The Honorable John A. Boehner, Speaker of the House of Representatives.

Dear Mr. Speaker: Pursuant to Section 36(d) of the Arms Export Control Act, I am transmitting, herewith, certification of a retransfer of major defense equipment in the amount of $50,000,000 or more.

The transaction contained in the attached certification involves the sale of six (6) Gripen C/D combat aircraft, one (1) Saab 340 Airborne Early Warning System containing U.S. origin content, and twelve (12) RB 15F air-launched anti-ship missiles, which are developed and manufactured in Sweden and contain U.S. content, from the Government of Sweden to the Government of Thailand.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 25, 2012 (Transmittal Number 12-030)

The Honorable John A. Boehner, Speaker of the House of Representatives.

Dear Mr. Speaker: Pursuant to Section 36(c) of the Arms Export Control Act, I am transmitting, herewith, certification of a proposed amendment to a technical assistance agreement for the export of technical data and defense services which support a space launch valued at $50,000,000 or more.

The transaction contained in the attached certification involves the transfer of technical data and defense services to Denmark, Norway, Russia, Sweden, Switzerland, United Kingdom, and Ukraine for support of Intelsat 27 satellite launch via the Sea Launch system.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 25, 2012 (Transmittal Number 12-031)

The Honorable John A. Boehner, Speaker of the House of Representatives.

Dear Mr. Speaker: Pursuant to Section 36(c) of the Arms Export Control Act, I am transmitting, herewith, certification of a proposed manufacturing license agreement for the export of defense articles and defense services sold under a contract in the amount of $100,000,000 or more.

The transaction contained in the attached certification involves the transfer of defense articles, to include technical data, and defense services, to Mexico for the manufacture and assembly of non-SME metal assemblies and subassemblies. The assemblies and subassemblies will be installed in the United States on U.S. naval vessels.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 18, 2012 (Transmittal Number 12-032)

The Honorable John A. Boehner, Speaker of the House of Representatives.

Dear Mr. Speaker: Pursuant to Section 36(c) of the Arms Export Control Act, I am transmitting, herewith, certification of a proposed technical assistance agreement for the sale and export of defense articles, including technical data, or defense services abroad in the amount of $100,000,000 or more.

The transaction contained in the attached certification involves the export of defense articles, including technical data, defense services, and hardware necessary to support the delivery, operation and maintenance of 12 S-70i helicopters with an option to purchase an additional 10 S-70i helicopters by the Kingdom of Brunei.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 21, 2012 (Transmittal Number 12-036)

The Honorable John A. Boehner, Speaker of the House of Representatives.

Dear Mr. Speaker: Pursuant to Section 36(c) of the Arms Export Control Act, I am transmitting, herewith, certification for the export of defense articles, to include technical data, and defense services in the amount of $1,000,000 or more.

The transaction contained in the attached certification involves the export of firearms to the Assistant Inspector General (Training), Special Protection Group of India.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 21, 2012 (Transmittal Number 12-037)

The Honorable John A. Boehner, Speaker of the House of Representatives.

Dear Mr. Speaker: Pursuant to Section 36(c) of the Arms Export Control Act, I am transmitting, herewith, certification of a proposed amendment to a technical assistance agreement to include the export of defense articles, including technical data, and defense services in the amount of $100,000,000 or more.

The transaction contained in the attached certification involves the export of defense articles, including technical data, and defense services to the Ministry of Defense, New Zealand Defense Force by a U.S. company for the sale of 11 SH-2G(I) helicopters.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

April 27, 2012 (Transmittal Number 12-042)

The Honorable John A. Boehner, Speaker of the House of Representatives.

Dear Mr. Speaker: Pursuant to Section 36(c) of the Arms Export Control Act, I am transmitting, herewith, certification for the export of defense articles, to include technical data, and defense services in the amount of $1,000,000 or more.

The transaction contained in the attached certification involves the export of various calibers of center and rim bolt action rifles to the country of Belgium.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 24, 2012 (Transmittal Number 12-044)

The Honorable John A. Boehner, Speaker of the House of Representatives.

Dear Mr. Speaker: Pursuant to Section 36(d) of the Arms Export Control Act, I am transmitting, herewith, certification of a proposed amendment to a manufacturing license agreement for the manufacture of significant military equipment abroad.

The transaction contained in the attached manufacturing license agreement involves the export of defense articles including technical data and defense services to Japan to manufacture turbine blades and turbine housings for the 131-9J Auxiliary Power Unit (APU) for end-use by the Ministry of Defense of Japan (JMOD).

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 21, 2012 (Transmittal Number 12-045)

The Honorable John A. Boehner, Speaker of the House of Representatives.

Dear Mr. Speaker: Pursuant to Section 36(c) of the Arms Export Control Act, I am transmitting, herewith, certification of a proposed amendment to a technical assistance agreement to include the export of defense articles, including technical data, and defense services in the amount of $50,000,000 or more.

The transaction contained in the attached certification involves the export of defense articles, including technical data, and defense services to the Mexican Air Force, Secretary of National Defense, Mexico by a U.S. company for the sale of T-6C Trainer Aircraft.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 21, 2012 (Transmittal Number 12-054)

The Honorable John A. Boehner, Speaker of the House of Representatives.

Dear Mr. Speaker: Pursuant to Section 36(c) of the Arms Export Control Act, I am transmitting, herewith, certification of a proposed amendment to a manufacturing license agreement to include the export of defense articles, including technical data, and defense services in the amount of $100,000,000 or more.

The transaction contained in the attached certification involves the export of defense articles, including technical data, and defense services for the design, development, manufacture, production, assembly and sustainment of the C-17 Globemaster III Transport Aircraft, Wing Trailing Edge Panels and Flap Hinge Fairings for end-use by a U.S. company in support of the United States Air Force.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

May 25, 2012 (Transmittal Number 12-060)

The Honorable John A. Boehner, Speaker of the House of Representatives.

Dear Mr. Speaker: Pursuant to Section 36(c) of the Arms Export Control Act, I am transmitting, herewith, certification of a proposed amendment to a manufacturing license agreement to include the export of defense articles, including technical data, and defense services in the amount of $100,000,000 or more.

The transaction contained in the attached certification involves the export of F135 engine and short take-off vertical landing “STOVL” lift system technical data, defense services and manufacturing assistance to the UK to allow for the on-going design, development, manufacture, and support of the F135 engine STOVL lift system parts, components, assemblies, and sub-assemblies for end-use by the U.S. Government and JSF partner nations.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

April 27, 2012 (Transmittal Number 12-062)

The Honorable John A. Boehner, Speaker of the House of Representatives.

Dear Mr. Speaker: Pursuant to Section 36(c) of the Arms Export Control Act, I am transmitting, herewith, certification of a proposed technical assistance agreement, to include the export of defense articles, including technical data, and defense services in the amount of $100,000,000 or more.

The transaction contained in the attached certification involves the export of defense articles, including technical data, and defense services to the United Kingdom in support of the sale of one C-17 Globemaster III transport aircraft.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

Dated: June 8, 2012.
Robert S. Kovac,
Managing Director, Directorate of Defense Trade Controls, Department of State.

[FR Doc. 2012-16852 Filed 7-9-12; 8:45 am]

BILLING CODE 4710-25-P